DEPARTMENT OF TRANSPORTATION

Federal Aviation Administration

14 CFR Part 71

[Docket No. FAA-2005-21873; Airspace Docket No. 05-ACE-27]

Modification of Class D and Class E Airspace; Salina Municipal Airport, KS

AGENCY: Federal Aviation Administration (FAA), DOT.

ACTION: Direct final rule; request for comments; correction.

SUMMARY: This action corrects an error in the legal description of Class D airspace in a direct final rule, request for comments that was published in the Federal Register on Friday July 29, 2005 (70 FR 43742).

DATES: This direct final rule is effective on 0901 UTC, October 27, 2005.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register Document 2005-21873, published on Friday July 29, 2005 (70 FR 43742), modified Class D and Class E Airspace at Salina Municipal Airport, KS. The phrase “This Class D airspace area is effective during the specific dates and times established in advance by a Notice to Airmen. The effective date and time will thereafter be continuously published in the Airport/Facility Directory,” was incorrectly deleted from the legal description of Class D airspace. This action corrects that error.

Accordingly, pursuant to the authority delegated to me, the error in the legal description of Class D Airspace, Topeka, Forbes Field, KS as published in the Federal Register Friday July 29, 2005 (70 FR 43742), (FR Doc. 2005-21873), is corrected as follows:

On page 43743, Column 1, under SUMMARY, delete the following sentences: “This action also removes references to effective dates and times established in advance by a Notice to Airmen from the legal descriptions for Class D airspace. The effective dates and times are now continuously published in the Airport/Facility Directory”.

PART 71—[CORRECTED]

§ 71.1 [Corrected]

On page 43744, Column 1, at the end of the legal description of ACE KS D Salina KS, add the phrase “This Class D airspace area is effective during the specific dates and times established in advance by a Notice to Airmen.The effective date and time will thereafter be continuously published in the Airport/Facility Directory.”

Issued in Kansas City, MO, on August 24, 2005.
Elizabeth S. Wallis,
Acting Area Director, Western Flight Services Operations.

[FR Doc. 05-17834 Filed 9-8-05; 8:45 am]

BILLING CODE 4910-13-M